FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011626-007.

Title: The Alianca/Columbus/Crowley/P&O Nedlloyd Agreement.

Parties: Alianca Navegacao e Logistica Ltda., Hamburg-Sud, P&O Nedlloyd Limited, P&O Nedlloyd B.V., Oceanica AGW Com. E Rep. Ltda.

Synopsis: The amendment increases the number of vessels to be operated under the agreement from six to seven with each party's space allocation adjusted accordingly.

Agreement No.: 201139.

Title: Port of New Orleans and New Orleans Cold Storage & Warehouse Company, Ltd.

Parties: Board of Commissioners of the Port of New Orleans New Orleans Cold Storage & Warehouse Company, Ltd.

Synopsis: The filed agreement provides for the lease of the facility known as the Jourdan Road Shed and the construction of a new cold storage facility at that location. The lease will run for 30 years with two optional renewal periods of 10 years each.

By Order of the Federal Maritime Commission.
Dated: October 11, 2002.
Theodore A. Zook,
Assistance Secretary.

[FR Doc. 02-26455 Filed 10-16-02; 8:45 am]

BILLING CODE 6730-01-P